COMMITTEE FOR PURCHASE FROM PEOPLE WHO ARE BLIND OR SEVERELY DISABLED

Procurement List; Proposed deletions

AGENCY: Committee for Purchase From People Who Are Blind or Severely Disabled.

ACTION: Proposed deletions from the procurement list.

SUMMARY: The Committee is proposing to delete product(s) from the Procurement List that were furnished by nonprofit agencies employing persons who are blind or have other severe disabilities.

DATES: Comments must be received on or before: May 23, 2021.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

5340-01-107-3382—Strap, Webbing, 30” x 1”

5340-01-190-2472—Strap, Webbing, 254” x 1”

Designated Source of Supply: Huntsville Rehabilitation Foundation, Huntsville, AL

Contracting Activity: DLA Troop Support, Philadelphia, PA

NSN(s)—Product Name(s):

6520-00-935-1007—Floss, Dental, Extra Fine, 100 yards, White

6520-01-063-6875—Floss, Dental, Unwaxed, 200 Yards, White

Contracting Activity: DLA Troop Support, Philadelphia, PA

NSN(s)—Product Name(s):

7530-00-244-4035—Paper, Carbon, Typewriter, 8-1/2” x 11”

Designated Source of Supply: East Texas Lighthouse for the Blind, Tyler, TX

Contracting Activity: GSA/FAS ADMIN SVCS ACQUISITION BR(2, NEW YORK, NY

NSN(s)—Product Name(s):

7520-01-511-7935—Highlighter, Dry-Lighter, Yellow

Designated Source of Supply: Industries for the Blind and Visually Impaired, Inc., West Allis, WI

Contracting Activity: GSA/FAS ADMIN SVCS ACQUISITION BR(2, NEW YORK, NY

NSN(s)—Product Name(s):

MR 13100—Baking Value Pack

Designated Source of Supply: Winston-Salem Industries for the Blind, Inc., Winston-Salem, NC

Contracting Activity: Military Resale-Defense Commissary Agency,

NSN(s)—Product Name(s):

7520-01-658-0096—Pen, Gel, Stick, Erasable, Blue Gel Ink, .5mm

Designated Source of Supply: West Texas Lighthouse for the Blind, San Angelo, TX

Contracting Activity: GSA/FAS Admin SVCS Acquisition BR(2, New York, NY

NSN(s)—Product Name(s):

7530-01-600-2014—Notebook, Spiral Bound, Biobased Bagasse Paper, 8-1/2 x 11”, 200 sheets, College Rule, White

Designated Source of Supply: Winston-Salem Industries for the Blind, Inc., Winston-Salem, NC

Contracting Activity: GSA/FAS Admin SVCS Acquisition BR(2, New York, NY

NSN(s)—Product Name(s):

7520-01-451-9179—Pen, Ballpoint, Retractable, Essential LVX, Black, Fine Point

Designated Source of Supply: Industries for the Blind and Visually Impaired, Inc., West Allis, WI

Contracting Activity: GSA/FAS Admin SVCS Acquisition BR(2, New York, NY

Michael R. Jurkowski,
Deputy Director, Business & PL Operations.

[FR Doc. 2021-08495 Filed 4-22-21; 8:45 am]

BILLING CODE 6353-01-P